DEPARTMENT OF COMMERCE

International Trade Administration

[A-423-808]

Stainless Steel Plate in Coils from Belgium: Notice of Rescission of Antidumping Administrative Review

AGENCY: Import Administration, International Trade Administration, U.S. Department of Commerce.

SUMMARY: In response to requests from Allegheny Ludlum and United Steelworkers of America, AFL-CIO/CLC (collectively, “Petitioners”) and Ugine & ALZ Belgium, NV (Respondent), the Department of Commerce (the Department) initiated an administrative review of the antidumping duty order on stainless steel plate in coils (SSPC) from Belgium. See Notice of Initiation of Antidumping and Countervailing Duty Administrative Reviews, 70 FR 37749 (Initiation Notice). This administrative review covered the period of May 1, 2004, through April 30, 2005. We are now rescinding this review as a result of both Petitioners' and Respondent's withdrawal of their requests for an administrative review.

EFFECTIVE DATE: December 30, 2005.

FOR FURTHER INFORMATION CONTACT: Toni Page or Scott Lindsay, AD/CVD Operations, Office 6, Import Administration, International Trade Administration, US Department of Commerce, 14th Street and Constitution Avenue, NW., Room 7866, Washington, DC 20230; telephone: (202) 482-1398 and (202) 482-0780, respectively.

SUPPLEMENTARY INFORMATION:

Background

The Department published an antidumping duty order on SSPC from Belgium on May 21, 1999. See Antidumping Duty Orders; Certain Stainless Steel Plate in Coils from Belgium, Canada, Italy, the Republic of Korea, South Africa, and Taiwan, 67 FR 27756 (May 21, 1999). On May 2, 2005, the Department published a notice of “Opportunity to Request Administrative Review” of the antidumping duty order for the period of May 1, 2004, through April 30, 2005. See Notice of Opportunity to Request Administrative Review of Antidumping or Countervailing Duty Order, Finding or Suspended Investigation, 70 FR 22631 (May 2, 2005). Both Petitioners and Respondent requested that the Department conduct an administrative review of the antidumping duty order on SSPC from Belgium on May 31, 2005. In response to these requests, the Department initiated an antidumping duty administrative review on SSPC from Belgium on June 30, 2005. See Initiation Notice, 70 FR 37749.

On August 2, 2005, Petitioners withdrew their request for an administrative review. On August 27, 2005, Respondent requested, pursuant to section 351.213(d)(1) of the Department's regulations, an extension of the deadline to withdraw its request for an administrative review. On September 27, 2005, we extended the deadline to withdraw until no later than December 2, 2005. See Letter from the Department to Ugine & ALZ Belgium dated September 27, 2005. On December 2, 2005, Respondent submitted a letter withdrawing its request for an administrative review. These were the only requests for an administrative review of this order for the period May 1, 2004 through April 30, 2005.

Rescission of the Administrative Review

Pursuant to section 351.213(d)(1) of the Department's regulations, the Secretary will rescind an administrative review, in whole or in part, if a party that requested the review withdraws the request within 90 days of the date of publication of notice of initiation of the requested review. Section 351.213(d)(1) of the Department's regulations also states that the Secretary may extend this time limit if the Secretary decides that it is reasonable to do so. The initiation notice for this review was published on June 30, 2005. We received Petitioners' withdrawal request on August 2, 2005, within the 90 days after publication of the initiation notice. We received Respondent's request for withdrawal on December 2, 2005, within the extended time period granted by the Department. Since all parties who requested this administrative review have withdrawn their requests in a timely manner, we are rescinding this review. The Department will issue appropriate assessment instructions to U.S. Customs and Border Protection within 15 days of publication of this notice.

Administrative Protective Orders

This notice serves as a reminder to parties subject to administrative protective order (APO) of their responsibility concerning the disposition of proprietary information disclosed under APO in accordance with Section 351.305(a)(3) of the Department's regulation. Timely written notification of the return or destruction of APO materials or conversion to judicial protective order is hereby requested. Failure to comply with the regulations and terms of an APO is a sanctionable violation.

This notice is issued and published in accordance with Section 777(i) of the Tariff Act of 1930, as amended, and Section 351.213(d)(4) of the Department's regulations.

Dated: December 23, 2005.
Stephen J. Clays,
Deputy Assistant Secretary for Import Administration.

[FR Doc. 05-24673 Filed 12-29-05; 8:45 am]

BILLING CODE 3510-DS-M